DEPARTMENT OF HOMELAND SECURITY

[Docket No. DHS-2015-0074]

Agency Information Collection Activities: CISOMB Customer Satisfaction and Needs Assessment Survey (Ombudsman Form DHS—NEW)

AGENCY: Office of the Citizenship and Immigration Services Ombudsman (CISOMB), DHS.

ACTION: 60-Day notice and request for comments; New Collection, 1601—NEW.

SUMMARY: The Department of Homeland Security, Office of the Citizenship and Immigration Services Ombudsman, will submit the following Information Collection Request (ICR) to the Office of Management and Budget (OMB) for review and clearance in accordance with the Paperwork Reduction Act of 1995 (Pub. L. 104-13, 44 U.S.C. Chapter 35).

DATES: Comments are encouraged and will be accepted until January 8, 2016. This process is conducted in accordance with 5 CFR 1320.1.

ADDRESSES: You may submit comments, identified by docket number DHS-2015-0074 by one of the following methods:

• Federal eRulemaking Portal: http://www.regulations.gov. Please follow the instructions for submitting comments.

• Email: dhs.pra@hq.dhs.gov. Please include docket number DHS-2015-0074 in the subject line of the message.

SUPPLEMENTARY INFORMATION: The Citizenship and Immigration Services (CIS) Ombudsman was created under section 452 of the Homeland Security Act of 2002 (Pub. L. 107-296) to: (1) Assist individuals and employers in resolving problems with the U.S. Citizenship and Immigration Services (USCIS); (2) identify areas in which individuals and employers have problems in dealing with USCIS; and (3) propose changes, to the extent possible, in the administrative practices of USCIS to mitigate problems.

The information collected on this form will allow the CIS Ombudsman to obtain feedback from the general public to assess the needs of customers and to identify improvement opportunities for Ombudsman services. The data collection instrument does not solicit or collect Personally Identifiable Information (PII).

The use of this survey provides the most efficient means for collecting and processing the required data. In the future, the Ombudsman will employ the use of information technology in collecting and processing this information by offering the option to complete the survey online. Per PRA requirements, a fillable PDF version of the survey will continue to be provided on the Ombudsman's Web site. The survey can be completed in PDF format, and faxed or sent as an attachment by email or in paper format by regular mail to the Ombudsman's office at the address indicated on the survey. After approval of the survey detailed in this supporting statement, the online survey will be posted on the Ombudsman's Web site at http://www.dhs.gov/topic/cis-ombudsman.

The assurance of confidentiality provided to the respondents for this information collection is provided by: (a) The Ombudsman statute and mandate as established by Homeland Security Act Section 452;(b)Privacy Act of 1974; and (c) The DHS Privacy Office has reviewed the entire package of documents for this information collection. This collection is covered by a Privacy Threshold Assessment adjudicated by the DHS Privacy office on March 26, 2015. The Ombudsman Customer Satisfaction and Needs Assessment Survey will be in compliance with all applicable DHS Privacy Office, DHS CIO, DHS Records Management, and OMB regulations regarding data collection, use, storage, and retrieval. The proposed public use data collection system is therefore intended to be distributed for public use primarily by electronic means with limited paper distribution and processing of paper forms.

The Ombudsman Customer Satisfaction and Needs Assessment Survey has been constructed in compliance with regulations and authorities under the purview of the DHS Privacy Office, DHS CIO, DHS Records Management, and OMB regulations regarding data collection, use, sharing, storage, information security and retrieval of information. In accordance with the Privacy Act of 1974, the Department of Homeland Security is giving notice that it proposes to establish the Department of Homeland Security system of records notice titled, “The Ombudsman Customer Satisfaction and Needs Assessment Survey System of Records.” This system of records will continue to ensure the efficient and secure processing of information to aid the Citizenship and Immigration Services Ombudsman in assessing the needs of customers to improve Ombudsman services and offer more efficient and effective alternatives. This system will be included in the Department of Homeland Security's inventory of record systems. This is a new collection.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of the Citizenship and Immigration Services Ombudsman, DHS.

Title: Agency Information Collection Activities: CISOMB Customer Satisfaction and Needs Assessment Survey.

OMB Number: 1601—NEW.

Frequency: On occasion.

Affected Public: Individuals and Households.

Number of Respondents: 8,800.

Estimated Time per Respondent: .5 hours.

Total Burden Hours: 4,400 hours.

Dated: November 2, 2015.
Carlene C. Ileto,
Executive Director, Enterprise Business Management Office.

[FR Doc. 2015-28382 Filed 11-6-15; 8:45 am]

BILLING CODE 9110-9B-P